DEPARTMENT OF AGRICULTURE

Forest Service

DEPARTMENT OF THE INTERIOR

Fish and Wildlife Service

Southeast Alaska Federal Subsistence Regional Advisory Council Meeting

AGENCY: Forest Service, USDA; Fish and Wildlife Service, Interior.

ACTION: Notice of meeting.

DATES: June 1, 2004.

Time and Location: 10 a.m. by teleconference. See SUPPLEMENTARY INFORMATION below.

SUMMARY: This notice informs the public that the Southeast Alaska Federal Subsistence Regional Advisory Council will hold a public meeting on June 1, 2004. The public is invited to participate and to provide oral testimony.

SUPPLEMENTARY INFORMATION: Regional Council discussion during the meeting will be devoted to the review and recommendation of a proposed rule on membership representation on regional councils, Stikine River fisheries issues, deer management planning for Unit 2, and other matters affecting subsistence users in Southeast Alaska. To participate, call, toll free, 1-888-398-1687. The Teleconference Leader is Mr. Bob Schroeder and the Passcode is Regional Council.

FOR FURTHER INFORMATION CONTACT: Chair, Federal Subsistence Board, c/o Office of Subsistence Management, U.S. Fish and Wildlife Service, 3601 C Street, Suite 1030, Anchorage, Alaska 99503; telephone (907) 786-3888. For questions related to subsistence management issues on National Forest Service lands inquires may also be directed to Steve Kessler, Subsistence Program Leader, 3601 C Street, Suite 1030, Anchorage, Alaska 99503; telephone (907) 786-3592.

Dated: April 9, 2004.
Thomas H. Boyd,
Acting Chair, Federal Subsistence Board.
Steve Kessler,
Subsistence Program Leader, USDA-Forest Service.

[FR Doc. 04-9117 Filed 4-21-04; 8:45 am]

BILLING CODE 3410-11-P; 4310-55-P